DEPARTMENT OF ENERGY

Federal Energy Regulatory Commission

Combined Notice of Filings #1

July 14, 2009.

Take notice that the Commission received the following exempt wholesale generator filings:

Docket Numbers: EG09-73-000.

Applicants: Dominion Nuclear Connecticut, Inc.

Description: Notice of Self Certification of Exempt Wholesale Generator Status by Dominion Nuclear Connecticut, Inc.

Filed Date: 07/10/2009.

Accession Number: 20090710-5019.

Comment Date: 5 p.m. Eastern Time on Friday, July 31, 2009.

Take notice that the Commission received the following electric rate filings:

Docket Numbers: ER09-1150-001.

Applicants: Entergy Services, Inc.

Description: Entergy Services, Inc submits First Revised Network Integration Transmission Service Agreement, et al.

Filed Date: 07/08/2009.

Accession Number: 20090709-0338.

Comment Date: 5 p.m. Eastern Time on Wednesday, July 29, 2009.

Docket Numbers: ER09-1414-001.

Applicants: GDF SUEZ Energy Marketing NA, Inc.

Description: Amendment to Application of GDF SUEZ Energy Marketing NA, Inc. for Finding of Category 1 Seller Status in the Central, SPP, Southwest and Northwest Regions.

Filed Date: 07/10/2009.

Accession Number: 20090710-5134.

Comment Date: 5 p.m. Eastern Time on Friday, July 31, 2009.

Docket Numbers: ER09-1423-001.

Applicants: Verde Energy USA, Inc.

Description: Verde Energy USA, Inc submits an amended application for authorization to make wholesale sales of energy, capacity, and ancillary services at negotiated market based rates.

Filed Date: 07/10/2009.

Accession Number: 20090713-0211.

Comment Date: 5 p.m. Eastern Time on Friday, July 31, 2009.

Docket Numbers: ER09-1424-000.

Applicants: ISO New England Inc.

Description: ISO New England Inc submits informational filing for qualification in the Forward Capacity Market for the 2012-2013 Capacity Commitment Period.

Filed Date: 07/07/2009.

Accession Number: 20090709-0277.

Comment Date: 5 p.m. Eastern Time on Wednesday, July 22, 2009.

Docket Numbers: ER09-1429-000.

Applicants: Black Hills Wyoming, LLC.

Description: Black Hills Wyoming, LLC submits Notice of Succession and a market-based rate wholesale power sales tariff.

Filed Date: 07/09/2009.

Accession Number: 20090710-0034.

Comment Date: 5 p.m. Eastern Time on Thursday, July 30, 2009.

Docket Numbers: ER09-1430-000.

Applicants: ISO New England Inc., Bangor Hydro-Electric Company.

Description: ISO New England Inc et al submit notice cancelling the Standard Large Generator Interconnection Agreement by and among ISO, BHE and Georgia Pacific Corporation.

Filed Date: 07/09/2009.

Accession Number: 20090710-0035.

Comment Date: 5 p.m. Eastern Time on Thursday, July 30, 2009.

Docket Numbers: ER09-1431-000.

Applicants: Midwest Independent Transmission System Operator, Inc.

Description: Midwest Independent Transmission System Operator, Inc et al submits amendments to revise the method of allocating the cost of Network Upgrades etc.

Filed Date: 07/09/2009.

Accession Number: 20090710-0033.

Comment Date: 5 p.m. Eastern Time on Thursday, July 30, 2009.

Docket Numbers: ER09-1432-000.

Applicants: Midwest Independent Transmission System Operator, Inc.

Description: Midwest Independent Transmission System Operator, Inc submits Facilities Construction Agreement among the Midwest ISP, Minnkota Power Cooperative, Inc, and Northern States Power Company.

Filed Date: 07/09/2009.

Accession Number: 20090710-0101.

Comment Date: 5 p.m. Eastern Time on Thursday, July 30, 2009.

Docket Numbers: ER09-1433-000.

Applicants: ISO New York Independent System Operator Inc.

Description: New York Independent System Operator Inc submits proposed revisions to its Market Administration and Control Area Services Tariff to exempt certain Generators and Qualified Non-Generator Voltage Support Resources etc.

Filed Date: 07/10/2009.

Accession Number: 20090713-0169.

Comment Date: 5 p.m. Eastern Time on Friday, July 31, 2009.

Docket Numbers: ER09-1434-000.

Applicants: Southwest Power Pool, Inc.

Description: Southwest Power Pool, Inc submits executed service agreement for network integration transmission service between SPP as transmission provider and City of Prescott as network customer, et al.

Filed Date: 07/10/2009.

Accession Number: 20090713-0204.

Comment Date: 5 p.m. Eastern Time on Friday, July 31, 2009.

Docket Numbers: ER09-1435-000.

Applicants: Midwest Independent Transmission System.

Description: Midwest Independent Transmission System Operator, Inc submits a newly proposed Schedule 34 of the Midwest ISO Open Access Transmission, Energy and Operating Reserve Markets Tariff.

Filed Date: 07/10/2009.

Accession Number: 20090713-0167.

Comment Date: 5 p.m. Eastern Time on Friday, July 31, 2009.

Docket Numbers: ER09-1436-000.

Applicants: Xcel Energy Services Inc.

Description: Southwestern Public Service Company submits Notice of Termination of the Electric Power Service Agreement between SPS and the Empire District Electric Company, FERC Rate Schedule 124 and Supplements 1 to 5.

Filed Date: 07/10/2009.

Accession Number: 20090713-0168.

Comment Date: 5 p.m. Eastern Time on Friday, July 31, 2009.

Docket Numbers: ER09-1437-000.

Applicants: Avista Corporation.

Description: Avista Corporation submits average system cost filing for sales of electric power to Bonneville Power Administration.

Filed Date: 07/10/2009.

Accession Number: 20090713-0205.

Comment Date: 5 p.m. Eastern Time on Friday, July 31, 2009.

Docket Numbers: ER09-1438-000.

Applicants: Portland General Electric Company.

Description: Portland General Electric Co submits its Average System Cost filing for sales of electric power to the Bonneville Power Administration.

Filed Date: 07/10/2009.

Accession Number: 20090713-0213.

Comment Date: 5 p.m. Eastern Time on Friday, July 31, 2009.

Docket Numbers: ER09-1439-000.

Applicants: PacifiCorp.

Description: PacifiCorp submits average system cost filing for sales of electric power to the Bonneville Power Administration.

Filed Date: 07/10/2009.

Accession Number: 20090713-0206.

Comment Date: 5 p.m. Eastern Time on Friday, July 31, 2009.

Docket Numbers: ER09-1440-000.

Applicants: Puget Sound Energy, Inc.

Description: Puget Sound Energy, Inc submits information related to PSE's residential purchase and sale agreement with the Bonneville Power Administration.

Filed Date: 07/10/2009.

Accession Number: 20090713-0207.

Comment Date: 5 p.m. Eastern Time on Friday, July 31, 2009.

Docket Numbers: ER09-1441-000.

Applicants: MidAmerican Energy Company.

Description: MidAmerican Energy Company submits notice of cancellation of MidAmerican Energy Company FERC Electric Rate Schedule No 201.

Filed Date: 07/10/2009.

Accession Number: 20090713-0208.

Comment Date: 5 p.m. Eastern Time on Friday, July 31, 2009.

Docket Numbers: ER09-1442-000.

Applicants: MidAmerican Energy Company.

Description: MidAmerican Energy Company submits notice of cancellation of MidAmerican Energy Company FERC Electric Rate Schedule No 200.

Filed Date: 07/10/2009.

Accession Number: 20090713-0209.

Comment Date: 5 p.m. Eastern Time on Friday, July 31, 2009.

Docket Numbers: ER09-1443-000.

Applicants: American Electric Power Service Corporate, Buckeye Power, Inc.

Description: American Electric Power Service Corporation submits Eighteenth Revised Interconnection and Local Delivery Service Agreement between AEP and Buckeye Power, Inc.

Filed Date: 07/10/2009.

Accession Number: 20090713-0210.

Comment Date: 5 p.m. Eastern Time on Friday, July 31, 2009.

Docket Numbers: ER09-1444-000.

Applicants: Midwest Independent Transmission System.

Description: Midwest Independent Transmission System Operator, Inc submits partially executed Amended and Restated Large Generator Interconnection Agreement with Lost Lakes Wind Farm LLC.

Filed Date: 07/10/2009.

Accession Number: 20090714-0009.

Comment Date: 5 p.m. Eastern Time on Friday, July 31, 2009.

Take notice that the Commission received the following electric securities filings:

Docket Numbers: ES09-28-001.

Applicants: Entergy Mississippi, Inc.

Description: Supplemental information of Entergy Services, Inc.

Filed Date: 07/10/2009.

Accession Number: 20090710-5131.

Comment Date: 5 p.m. Eastern Time on Monday, July 20, 2009.

Take notice that the Commission received the following open access transmission tariff filings:

Docket Numbers: OA97-139-001; TS09-8-000.

Applicants: Otter Tail Power Company.

Description: Notice of Material Change in Facts Relating to Waiver of Order No. 889 and part 358 of the Commission's Regulations of Otter Tail Power Company.

Filed Date: 07/13/2009.

Accession Number: 20090713-5222.

Comment Date: 5 p.m. Eastern Time on Monday, August 03, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-17363 Filed 7-21-09; 8:45 am]

BILLING CODE 6717-01-P